DEPARTMENT OF JUSTICE

Notice of Lodging of Consent Decree Under the Comprehensive Environmental Response, Compensation, and Liability Act, 42 U.S.C. 9601 ET SEQ.

Notice is hereby given that on October 11, 2000 a proposed consent decree in United States v. Keystone Sanitation Co., Inc., Civil Action No. 1:CV-93-1482, was lodged with the United States District Court for the Middle District of Pennsylvania.

The United States brought this action under section 107 of the Comprehensive Environmental Response, Compensation, and Liability Act (CERCLA), 42 U.S.C. 9607, to recover its past costs incurred at the Keystone Sanitation Co. Superfund Site, located near Hanover, Pennsylvania. There have been a number of prior consent decrees at the site. The proposed consent decree obligates the Owner/Operators to perform and fully finance the enhanced landfill gas extraction (“ELGE”) alternate remedy, which EPA proposed at the Site on June 1, 2000 if, after review of public comment, EPA selects it. The decree also requires the Owner/Operators to implement the landfill cap, which EPA previously selected as a remedy at the Site in a 1990 ROD, or a contingent remedy if the ELGE alternate remedy is selected but fails to meet performance standards. EPA agrees to share the costs of those latter two remedial actions.

The Owner/Operators also agree to pay $125,000 toward natural resource damages. Waste Management is obligated to pay $250,000 as a penalty for its non-compliance with a prior unilateral administrative order at the Site. As with prior settlements at the Site, the owner/operators also waive all existing claims for contribution against all generator or transporter parties, and future claims for contribution in the event of a reopener against parties meeting specific criteria.

The Pennsylvania Department of Environmental Protection (PADEP) is a co-plaintiff and signatory to this decree. It provides a covenant not to sue under CERCLA and its state Superfund statute in exchange for the Owner/Operators' agreement to perform the work and operation and maintenance at the Site, and to reimburse it for certain past costs and natural resource damages. The decree also resolves two small related actions, brought under the Federal Debt Procedures Collection Act, 28 U.S.C. 3001 et seq., and one brought by the Keystone Defendants under the Freedom of Information Act, 5 U.S.C.A. 552.

The Department of Justice will receive for a period of thirty (30) days from the date of this publication comments relating to the Consent Decree. Comments should be addressed to the Assistance Attorney General, Environment and Natural Resources Division, P.O. Box 7611, U.S. Department of Justice, Washington, DC 20044-7611, and should refer to United States v. Keystone Sanitation Co., Inc., et al., (M.D. Pa.), DOJ #90-11-2-656A.

The consent decree may be examined at the Office of the United States Attorney for the Middle District of Pennsylvania, 228 Walnut Street, Harrisburg, PA 17108, and at EPA Region III, 1650 Arch Street, Philadelphia, PA. A copy of the decree may also be obtained by mail from the Consent Decree Library, P.O. Box 7611, U.S. Department of Justice, Washington, DC 20044-7611. In requesting a copy, please enclose a check in the amount of $70.00, payable to the Consent Decree Library.

Bruce Gelber,
Chief, Environmental Enforcement Section, Environment and Natural Resources Division.

[FR Doc. 00-27530 Filed 10-25-00; 8:45 am]

BILLING CODE 4410-15-M